DEPARTMENT OF ENERGY

Federal Energy Regulatory Commission

[Docket No. CP17-40-006]

Spire STL Pipeline LLC; Notice of Availability of the Final Environmental Impact Statement for the Spire STL Pipeline Project

The staff of the Federal Energy Regulatory Commission (FERC or Commission) has prepared a final environmental impact statement (EIS) for the continued operation of the Spire STL Pipeline Project (Spire STL), proposed by Spire STL Pipeline LLC (Spire) in the above-referenced docket. Spire requests the Commission to reissue a Certificate of Public Convenience and Necessity authorizing operation of the Spire STL.

The final EIS assesses the continued operation of the Spire STL in accordance with the requirements of the National Environmental Policy Act (NEPA). FERC staff concludes that impacts from the continued operation of the Spire STL would be less than significant, with the exception of climate change impacts resulting from GHG emissions that are not characterized as significant or insignificant.

The final EIS addresses the potential environmental effects of the continued operation of the following project facilities:

• 59.2 miles of 24-inch-diameter pipeline in Scott, Greene, and Jersey Counties, Illinois and St. Charles and St. Louis Counties, Missouri;

• 6.0 miles of 24-inch-diameter pipeline (the North County Extension) in St. Louis County, Missouri; and

• three new meter stations—the Rockies Express Pipeline LLC (REX) Receipt Station in Scott County, Illinois and the Laclede/Lange Delivery Station and Chain of Rocks station in St. Louis County, Missouri.

The Commission mailed a copy of the Notice of Availability of the final EIS to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field, excluding the last three digits (i.e., CP17-40). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 7, 2022.
Kimberly D. Bose,
Secretary.

[FR Doc. 2022-22366 Filed 10-13-22; 8:45 am]

BILLING CODE 6717-01-P